POSTAL SERVICE

39 CFR Part 111

Realignment of Buffalo and Pittsburgh Postal Facilities for Deposit of DBMC Rate Standard Mail and Package Services Machinable Parcels

AGENCY: Postal Service.

ACTION: Proposed rule.

SUMMARY: This proposed rule amends the Domestic Mail Manual (DMM) to realign permissible points for mailer deposit of Standard Mail machinable parcels and Package Services machinable parcels currently taken to the Buffalo, New York, Auxiliary Service Facility (ASF), and claimed at destination bulk mail center (DBMC) rates. The proposed rule would require such mail to be taken to and postage calculated from the Pittsburgh Bulk Mail Center (BMC) to qualify for the DBMC rates.

DATES: Comments must be received on or before February 19, 2002.

ADDRESSES: Written comments should be mailed or delivered to Manager, Mail Preparation and Standards, USPS, 1735 N Lynn Street, Arlington, VA 22209-6038. Copies of all written comments will be available for inspection and photocopying between 9 a.m. and 4 p.m., Monday through Friday, in the Library, Postal Service Headquarters, 475 L'Enfant Plaza SW., Washington, DC 20260-1540.

FOR FURTHER INFORMATION CONTACT: OB Akinwole, (703) 292-3643; or Cheryl Beller (202) 268-5166.

SUPPLEMENTARY INFORMATION:

Background

Currently machinable and nonmachinable parcels deposited at the Buffalo ASF are eligible for destination bulk mail center (DBMC) rates if the applicable preparation standards are met (e.g., pieces are prepared in 5-digit containers or Buffalo ASF containers) and the pieces deposited are addressed for delivery within the ZIP Code range of the Buffalo ASF service area as defined in DMM E650, Exhibit 5.1 and E751, Exhibit 1.3. For the DBMC rates, that service area currently comprises destination 3-digit ZIP Code prefixes 130 through 136 and 140 through 149. All machinable parcels and nonmachinable parcels entered at the Buffalo ASF are sorted manually by the Postal Service to the first three digits of the delivery address ZIP Codes. They are then transported to sectional center facilities (SCFs) in Rochester, Syracuse, Elmira, and Utica. At the SCFs the parcels are sorted by 5-digit ZIP Code to the associated delivery offices and subsequently transported to those delivery offices.

In contrast to this manual operation in Buffalo, machinable parcels entered at the Pittsburgh BMC are sorted on parcel sorting machines (PSMs) and finalized to 5-digit ZIP Codes in the 130-136 and 140-149 range in one or two passes. Sorted parcels destined for the Buffalo ASF service area are then transported directly from the Pittsburgh BMC to the appropriate SCFs for cross docking to the delivery offices without further sortation at the SCFs. Approximately 31 percent of the parcel volume now handled by the Pittsburgh BMC is destined for the Buffalo ASF service area ZIP Codes and, of that volume, nearly 90 percent is sorted to 5-digit ZIP Codes on the PSMs.

The diversion of machinable parcels from the Buffalo ASF to the Pittsburgh BMC is generally not the result of redirection of that volume by the Buffalo ASF. Almost since the inception of the DBMC entry rate, most drop shippers have deposited machinable parcels and some nonmachinable parcels destined for the Buffalo ASF service area at the Pittsburgh BMC, either under a 1995 Postal Service exception letter or at the direction of the Buffalo ASF.

In order to calculate postage for these diverted parcels, some mailers depositing machinable parcels at the Pittsburgh BMC zone their mail from the Buffalo ASF, and others zone their mail from the Pittsburgh BMC. Since 1993, the Buffalo ASF has received extremely few drop shipments of machinable parcels. In fact, current records indicate that more than three years have passed since the Buffalo ASF has received any drop shipments.

Officials at the Pittsburgh BMC confirm that mailers are making appointments and dropping machinable parcels destined for the Buffalo ASF service area at the Pittsburgh BMC rather than the Buffalo ASF. This arrangement coincides with the fact that western New York is not an originating site for parcel shippers, and the volume that is destined for Buffalo generally originates outside the local area by mailers who are also likely to have parcels destined for the Pittsburgh BMC service area.

Facility restrictions at the Buffalo ASF also make it desirable that the Postal Service redirect machinable parcels from Buffalo to Pittsburgh. The Buffalo ASF lacks sufficient space to handle a large volume of parcels. Additionally, since it does not have PSMs even machinable parcels must be handled in manual operations.

Moreover, if the current parcel diversion were stopped, the cost to process the 21.5 million parcels annually that would shift from the Pittsburgh BMC to the Buffalo ASF would greatly increase because additional work hours would be required at the downstream SCFs within the Buffalo ASF to sort the parcels to the five-digit delivery offices. As previously noted, these parcels are currently finalized to 5-digits at the Pittsburgh BMC. At the same time, there would be no reduced transportation costs for the Postal Service between Pittsburgh and Buffalo because the volume of Standard Mail, not Package Services mail, primarily determines the number of daily trips between the two facilities.

Effective Date

The Postal Service is proposing that the following revisions become effective March 31, 2002. Mailers are permitted to enter mail under the revised standards immediately upon publication of the final rule with required compliance by June 1, 2002.

Proposed Changes

Under the proposed realignment, all machinable parcels claiming DBMC rates for Standard Mail, Parcel Select, and Bound Printed Matter for ZIP Codes currently listed under the Buffalo ASF service area in DMM L602 would be entered, by mailers, at the Pittsburgh BMC. Machinable parcels for those ZIP Codes claimed at DBMC rates, would be sorted to the Pittsburgh BMC, rather than the Buffalo ASF, using DMM Labeling list L601. This processing is currently done by the Pittsburgh BMC.

In addition, mailers would be permitted, as an option, to deposit nonmachinable parcels, at non DBMC rates, for the Buffalo ASF service area ZIP Codes listed in DMM labeling list L602 at the Pittsburgh BMC if the parcels were commingled in bedloads with the DBMC rate machinable parcels deposited at the Pittsburgh BMC. Mailers would continue to claim DBMC rates for the following types of mail deposited at the Buffalo ASF for delivery to Buffalo ASF service area ZIP Codes as prescribed in DMM E650, Exhibit 5.1 and E751, Exhibit 1.3:

• Parcel Post nonmachinable parcels not commingled in DBMC bedloads with machinable parcels.

• Parcel Select perishables.

• Bound Printed Matter flats and irregular parcels.

• Standard Mail flats, irregular parcels, and letters.

Under this proposal, Standard Mail, Parcel Select, and Bound Printed Matter machinable parcels sorted to 5-digit ZIP Codes within the Buffalo SCF service area, as defined in DMM L005, would still be required to be entered at Buffalo to qualify for the DSCF rate. Standard Mail machinable parcels claimed at DSCF rates and entered at Buffalo would continue to be eligible for a parcel barcode discount.

As part of this proposal, machinable and nonmachinable parcels—both Parcel Post and Bound Printed Matter—would be zoned from the Pittsburgh BMC using Postal Service zone chart 150. Barcoded machinable parcels for the Buffalo ASF service area would also be eligible for the parcel barcode discount when entered at the Pittsburgh BMC. The Postal Service believes that this realignment of ZIP Codes for DBMC rate eligibility between the Pittsburgh BMC and the Buffalo ASF will provide consistent customer service and promote the most efficient and cost-effective method for processing machinable parcels for mailers and for the Postal Service.

The Postal Service also believes that this proposal will eliminate any confusion concerning the applicable standards for the deposit of DBMC machinable parcels in the affected service areas.

List of Subjects in 39 CFR Part 111

Administrative Practice and Procedure, Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Amend Domestic Mail Manual (DMM) modules E and L as follows:

Domestic Mail Manual (DMM)

* * * * *

E ELIGIBILITY

* * * * *

E600 Standard Mail

* * * * *

E650 Destination Entry

* * * * *

5.0 DBMC DISCOUNT

5.1 Definition

[Amend Exhibit 5.1 by showing realignment of eligible destination ZIP Codes for machinable parcels for the Buffalo ASF and Pittsburgh BMC entry facilities to read as follows:]

* * * * *

Eligible destination ZIP Codes | Entry facility
* * * * * * *
130-136, 140-149 [Except machinable parcels] | ASF BUFFALO NY 140.
150-168, 260-266, 439-447 [Except machinable parcels] | BMC PITTSBURGH PA 15195.
130-136, 140-168, 260-266, 439-447 [Machinable parcels only or machinable parcels combined with bedloaded nonmachinable parcels] | BMC PITTSBURGH PA 15195.
* * * * * * *

* * * * *

5.5 Additional Standards for Machinable Parcels

[Amend 5.5a by adding the phrase “except as shown in Exhibit 5.1” to the second sentence to explain when sortation of parcels to ASFs is optional to read as follows:]

* * * * *

a. Destination BMC/ASF Containers. Machinable parcels palletized under M045 or sacked under M610 may be sorted to destination BMCs under L601 or to destination BMCs and ASFs under L601 and L602. When machinable parcels are sorted to both destination BMCs and ASFs under L601 and L602, they qualify for DBMC rates under 5.2. Except as provided in Exhibit 5.1, sortation of machinable parcels to ASFs is optional but is required for the ASF mail to be eligible for DBMC rates. * * *

* * * * *

E700 Package Services

* * * * *

E750 Destination Entry

E751 Parcel Select

* * * * *

1.0 BASIC STANDARDS

* * * * *

1.3 Definition

[Amend Item and Exhibit 1.3 by showing realignment of eligible destination ZIP Codes for machinable parcels for the Buffalo ASF and Pittsburgh BMC entry facilities to read as follows:]

* * * * *

b. Except as provided in Exhibit 1.3, pieces deposited at each BMC or ASF must be addressed for delivery within the ZIP Code range of that facility.

Eligible destination ZIP Codes | Entry
* * * * * * *
130-136, 140-149 [Except machinable parcels] | ASF BUFFALO NY 140.
150-168, 260-266, 439-447 [Except machinable parcels] | BMC PITTSBURGH PA 15195.
130-136, 140-168, 260-266, 439-447 [Machinable parcels only or machinable parcels combined with bedloaded nonmachinable parcels] | BMC PITTSBURGH PA 15195.
* * * * * * *

* * * * *

E752 Bound Printed Matter

* * * * *

2.0 Destination Bulk Mail Center (DBMC) Rates

* * * * *

2.3 Presorted Machinable Parcels

[Amend 2.3 by adding the phrase “except as shown in Exhibit E751.1.3” to the third sentence to read as follows:]

Presorted machinable parcels in sacks or on pallets at all sort levels may claim DBMC rates. Machinable parcels palletized under M045 or sacked under M722 may be sorted to destination BMCs under L601 or to destination BMCs and ASFs under L601 and L602. Except as provided in Exhibit E751.1.3, sortation of machinable parcels to ASFs is optional but is required for the ASF mail to be eligible for DBMC rates. * * *

* * * * *

L Labeling Lists

* * * * *

L600 Standard Mail and Package Services

L601 BMCs

[Amend L601 by revising items to read as follows:]

* * * * *

a. Standard Mail machinable parcels except ASF mail (other than mail for the Buffalo ASF service area) prepared and claimed at DBMC rates. Machinable parcels for the Buffalo ASF service area prepared and claimed at DBMC rates must be sorted to the Pittsburgh BMC.

* * * * *

c. Bound Printed Matter machinable parcels except ASF mail (other than mail for the Buffalo ASF service area) prepared and claimed at DBMC rates. Machinable parcels for the Buffalo ASF service area prepared and claimed at DBMC rates must be sorted to the Pittsburgh BMC.

* * * * *

e. Parcel Post except for ASF mail (other than mail for the Buffalo ASF service area) prepared and claimed at DBMC rates and nonmachinable BMC Presort or OBMC Presort rate mail. Machinable parcels for the Buffalo ASF service area prepared and claimed at DBMC rates must be sorted to the Pittsburgh BMC. Nonmachinable parcels for the Buffalo ASF service area claimed at DBMC rates may be sorted to the Pittsburgh BMC if bedloaded and presented with machinable parcels.

* * * * *

L602 ASFs

[Amend L602 by revising L602a, L602c, and L602e to read as follows:]

L602 defines the service area by individual 3-digit ZIP Code prefix for Standard Mail and Package Services mail that must be sorted to ASFs.

Use this list for:

a. Standard Mail machinable parcels if ASF mail (other than mail for the Buffalo ASF service area) is prepared and claimed at DBMC rates. Machinable parcels for the Buffalo ASF service area prepared and claimed at DBMC rates must be sorted to the Pittsburgh BMC under L601.

* * * * *

c. Bound Printed Matter machinable parcels if ASF mail (other than mail for the Buffalo ASF service area) is prepared and claimed at DBMC rates. Machinable parcels for the Buffalo ASF service area prepared and claimed at DBMC rates must be sorted to the Pittsburgh BMC under L601.

* * * * *

e. Parcel Post machinable parcels if ASF mail (other than mail for the Buffalo ASF service area) is prepared and claimed at DBMC rates. Machinable parcels for the Buffalo ASF service area prepared and claimed at DBMC rates must be sorted to the Pittsburgh BMC under L601. Nonmachinable parcels for the Buffalo ASF service area claimed at DBMC rates may be sorted to the Pittsburgh BMC under L601 if bedloaded and presented with machinable parcels.

* * * * *

An appropriate amendment to 39 CFR part 111.3 to reflect these changes will be published if the proposal is adopted.

Stanley F. Mires,
Chief Counsel, Legislative.

[FR Doc. 02-1272 Filed 1-16-02; 8:45 am]

BILLING CODE 7710-12-P